DEPARTMENT OF COMMERCE

National Oceanic and Atmospheric Administration

50 CFR Part 622

RIN 0648-AV80

Fisheries of the Caribbean, Gulf of Mexico, and South Atlantic; Reef Fish Fishery of the Gulf of Mexico; Amendment 30B

AGENCY: National Marine Fisheries Service (NMFS), National Oceanic and Atmospheric Administration (NOAA), Commerce.

ACTION: Announcement of availability of fishery management plan amendment; request for comments.

SUMMARY: NMFS announces the Gulf of Mexico Fishery Management Council (Council) has submitted Amendment 30B to the Fishery Management Plan (FMP) for the Reef Fish Resources of the Gulf of Mexico for review, approval, and implementation by NMFS. The amendment proposes actions to end overfishing of gag, revise red grouper management measures as a result of changes in the stock condition, establish annual catch limits (ACLs) and accountability measures (AMs) for gag and red grouper, manage shallow-water grouper (SWG) to achieve optimum yield (OY), and improve the effectiveness of Federal management measures.

DATES: Written comments must be received on or before December 29, 2008.

ADDRESSES: You may submit comments on Amendment 30B, identified by “0648-AV80” by any of the following methods:

• Electronic Submissions: Submit all electronic public comments via the Federal e-Rulemaking Portal: http://www.regulations.gov.

• Fax: 727-824-5308; Attention: Peter Hood.

• Mail: Peter Hood, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the e-Rulemaking Portal: http://www.regulations.gov, enter “NOAA-NMFS-2008-0203” in the keyword search and then select “send a comment or submission.” NMFS will accept anonymous comments (enter N/A in the required fields, if you wish to remain anonymous). You may submit attachments to electronic comments in Microsoft Word, Excel, WordPerfect, or Adobe PDF file formats only.

Copies of Amendment 30B, which includes an environmental impact statement, an initial regulatory flexibility analysis, and a regulatory impact review may be obtained from the Gulf of Mexico Fishery Management Council, 2203 North Lois Avenue, Suite 1100, Tampa, FL 33607; telephone 813-348-1630; fax 813-348-1711; e-mail gulfcouncil@gulfcouncil.org; or may be downloaded from the Council's website at http://www.gulfcouncil.org/.

FOR FURTHER INFORMATION CONTACT: Peter Hood, 727-824-5305.

SUPPLEMENTARY INFORMATION: The Magnuson-Stevens Fishery Conservation and Management Act (Magnuson-Stevens Act) requires each regional fishery management council to submit any fishery management plan or amendment to NMFS for review and approval, disapproval, or partial approval. The Magnuson-Stevens Act also requires that NMFS, upon receiving a plan or amendment, publish an announcement in the Federal Register notifying the public that the plan or amendment is available for review and comment.

Background

The Magnuson-Stevens Act requires NMFS and regional fishery management councils to prevent overfishing and achieve, on a continuing basis, OY from federally managed fish stocks. To further this goal, the Magnuson-Stevens Act requires fishery managers to specify their strategy to rebuild overfished stocks to a sustainable level within a certain time frame, and to minimize bycatch and bycatch mortality to the extent practicable. The reauthorized Magnuson-Stevens Act as amended through January 12, 2007, requires the councils to establish ACLs for each stock or stock complex and AMs to ensure these ACLs are not exceeded. The actions proposed in Amendment 30B are intended to address these mandates and achieve OY from the SWG fishery.

Proposed Gag Provisions of Amendment 30B

A stock assessment conducted in 2006 determined gag to be undergoing overfishing. To end overfishing of gag, Amendment 30B proposes to lower the total allowable catch (TAC), but would allow increases every year for the first three years (2009-2011) in accordance with the projected rebuilding of the stock. Under Amendment 30B's proposed minimum stock size threshold definition, gag would not be considered overfished. To distribute the gag TAC between the recreational and commercial sectors, the Council proposes an interim allocation of 61:39, respectively.

Given the above allocation, the gag commercial quota in gutted weight would be 1.32 million lb (598,742 kg) in 2009, 1.41 million lb (639,565 kg) in 2010, and 1.49 million lb (675,853 kg) in 2011 and thereafter until the stock is reassessed. To ensure the commercial harvest remains within the prescribed quota, Amendment 30B proposes AMs that would give the Assistant Administrator for Fisheries, NOAA, (AA) the authority to close the fishery should the quota be met. If despite such a closure, gag commercial landings exceed the ACL, the amendment would allow the AA to maintain the quota in the following year at the level of the prior year's quota.

For the recreational fishery, harvest would be reduced an estimated 26 percent, which is greater than the minimum reduction needed to end overfishing. Amendment 30B would set the bag limit at 2 gag in a reduced 4-fish grouper aggregate bag limit and prohibit the recreational harvest of gag, as well as other SWG species, from February 1 to March 31. To ensure gag overfishing ends, AMs are proposed that would allow the AA to take action should the specified recreational ACL be exceeded. The following year's recreational SWG season would be reduced by the amount necessary to ensure gag recreational landings do not exceed the recreational target catch level in that following fishing year.

Proposed Red Grouper Provisions of Amendment 30B

The red grouper stock was assessed in 2007 and was found to have fully recovered from its previous condition of being overfished and undergoing overfishing. Amendment 30B would raise TAC from the current 6.56 million lb (2.97 million kg) to 7.57 million lb (3.43 million kg) gutted weight, the yield associated with the equilibrium OY level. To distribute the red grouper TAC between the recreational and commercial sectors, the Council proposes an interim allocation of 24:76, respectively.

Based on the above allocation, Amendment 30B would set the red grouper commercial quota at 5.75 million lb (2.61 million kg) gutted weight. Amendment 30B would also set ACLs and AMs for the commercial fishery. If red grouper landings reach or exceed the established quota, the AA would close the SWG fishery for the remainder of the year. In addition, should the commercial fishery exceed the ACL, the AA would be allowed to maintain the quota in the following year at the level of the prior year's quota. Amendment 30B also proposes to reduce the minimum size limit for red grouper in the commercial fishery from 20 inches to 18 inches total length to reduce discard mortality.

For the recreational red grouper fishery, Amendment 30B would increase the red grouper bag limit from 1 to 2 red grouper in a reduced 4-fish grouper aggregate bag limit and prohibit the recreational harvest of red grouper and other SWG species from February 1 to March 31. Overall, these measures should allow the recreational harvest of red grouper to increase by 17 percent. To prevent the possibility of red grouper overfishing, proposed AMs would give the AA the authority to shorten the following recreational fishing season should the ACL be exceeded. The application of the red grouper AMs would be the same as those described above for the gag recreational fishery.

Proposed SWG Provisions of Amendment 30B

The SWG fishery includes eight species: gag, red grouper, black grouper, scamp (until the commercial SWG quota is reached, at which time scamp in considered a deep-water grouper), yellowfin grouper, rock hind, red hind, and yellowmouth grouper. Amendment 30B would set the commercial SWG quota as the sum of the gag and red grouper quotas with an allowance for other SWG species. Should the gag, red grouper, or SWG quotas be met, the entire SWG commercial fishery would be closed. It is likely the gag quota would be met prior to the red grouper or SWG quotas; therefore, Amendment 30B would establish an incidental harvest trip limit of 200 lb (91 kg) gutted weight for either gag or red grouper once either species reaches 80 percent of its quota. This would allow the SWG fishery to remain open until one of the three quotas was met. Proposed ACLs and AMs for the commercial SWG fishery would be similar to those developed for gag and red grouper, except the commercial SWG fishery would be closed once the gag, red grouper, or commercial SWG quota is met. Should the commercial SWG ACLs be exceeded despite the closure, the subsequent year's quota would be equal to the previous years.

For the recreational fishery, Amendment 30B would limit the overall recreational harvest of SWG species by instituting a reduced aggregate grouper bag limit from 5 to 4 fish and a season closure from February 1 through March 31 for all SWG species.

Proposed Season and Area Closure Provisions of Amendment 30B

Amendment 30B proposes a new restricted fishing area called “The Edges” that would remain in place until terminated through a subsequent amendment. This proposed restricted area is located between the existing Madison-Swanson and Steamboat Lumps marine reserves, spans 37 nautical miles along the 40-fathom contour, and covers 390 nautical square miles. It would be closed to all fishing under the Council's jurisdiction from January 1 through April 30 each year. Amendment 30B also proposes to extend indefinitely the Madison-Swanson and Steamboat Lumps marine reserves that are set to expire June 16, 2010. Should “The Edges” restricted fishing area be implemented, the current commercial February 15 to March 15 closed season for gag, black grouper and red grouper would be repealed.

Proposed Federal Compliance Provisions of Amendment 30B

To improve the effectiveness of the Federal regulations when there are less restrictive regulations in state waters, Amendment 30B proposes to require all vessels with Federal commercial or for-hire reef fish permits comply with the more restrictive of state or Federal reef fish regulations when fishing in state waters.

Proposed Rule for Amendment 30B

A proposed rule that would implement measures outlined in Amendment 30B has been received from the Council. In accordance with the Magnuson-Stevens Act, NMFS is evaluating Amendment 30B to determine whether it is consistent with the FMP, the Magnuson-Stevens Act, and other applicable law. If that determination is affirmative, NMFS will publish the proposed rule in the Federal Register for public review and comment.

Consideration of Public Comments

Comments received by December 29, 2008, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: October 22, 2008.
Emily H. Menashes,
Acting Director, Office of Sustainable Fisheries, National Marine Fisheries Service.

[FR Doc. E8-25711 Filed 10-27-08; 8:45 am]

BILLING CODE 3510-22-S